DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of the currently approved collection. The ICR describes the nature of the information collection and the expected burden. A Federal Register notice with a 60-day comment period soliciting comments on the following collection of information was published on June 12, 2002, page 40373, and a notice with a 30-day comment period for the December submission for this collection report was published on December 27, 2002, page 79236.

DATES: Comments must be submitted on or before October 6, 2003. A comment to OMB is most effective if OMB receives it within 30 days of publication.

FOR FURTHER INFORMATION CONTACT: Judy Street on (202) 267-9895.

SUPPLEMENTARY INFORMATION:

Federal Aviation Administration (FAA)

Title: Application for Employment with the Federal Aviation Administration.

Type of Request: Extension of a currently approved collection.

OMB Control Number: 2120-0597.

Forms(s): FAA Form 27152.

Affected Public: A total of 50,000 individual applicants for employment with the FAA.

Abstract: This collection of information is necessary for gathering data concerning potential new hires for the FAA. The information will be used to evaluate the qualifications of applicants for a variety of positions. Without this information there would be no reliable means to accurately evaluate applicants' skills, knowledge, and abilities to perform the duties of these positions.

Estimated Annual Burden Hours: An estimated 75,000 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on August 25, 2003.
Judith D. Street,
FAA Information Collection Clearance Officer, Standards and Information Division, APF-100.

[FR Doc. 03-22467 Filed 9-3-03; 8:45 am]

BILLING CODE 4910-13-M